U.S.-CHINA ECONOMIC AND SECURITY REVIEW COMMISSION

Notice of Open Public Hearing

AGENCY: U.S.-China Economic and Security Review Commission.

ACTION: Notice of open public hearing.

SUMMARY: Notice is hereby given of the following hearing of the U.S.-China Economic and Security Review Commission. The Commission is mandated by Congress to investigate, assess, and report to Congress annually on “the national security implications of the economic relationship between the United States and the People's Republic of China.” Pursuant to this mandate, the Commission will hold a public hearing in Washington, DC on May 20, 2021 on “China in Latin America and the Caribbean.”

DATES: The hearing is scheduled for Thursday, May 20, 2021, 9:30 a.m.

ADDRESSES: This hearing will be held with panelists and Commissioners participating in-person or online via videoconference. Members of the audience will be able to view a live webcast via the Commission's website at www.uscc.gov. Also, please check the Commission's website for possible changes to the hearing schedule. Reservations are not required to attend the hearing.

FOR FURTHER INFORMATION CONTACT: Any member of the public seeking further information concerning the hearing should contact Jameson Cunningham, 444 North Capitol Street NW, Suite 602, Washington DC 20001; telephone: 202-624-1496, or via email at jcunningham@uscc.gov. Reservations are not required to attend the hearing.

ADA Accessibility: For questions about the accessibility of the event or to request an accommodation, please contact Jameson Cunningham via email at jcunningham@uscc.gov. Requests for an accommodation should be made as soon as possible, and at least five business days prior to the event.

SUPPLEMENTARY INFORMATION: Background: This is the fifth public hearing the Commission will hold during its 2021 report cycle. The hearing will examine China's political, economic, and security engagement with Latin America and the Caribbean. The opening panel will examine China's overall strategy for diplomatic and political engagement with Latin American and Caribbean countries, identify Beijing's main objectives and strategies, and consider their implications for countries in the region as well as the United States. The second panel will assess Chinese economic engagement and competition with the United States in Latin America and the Caribbean, explore Chinese infrastructure investment, development aid, and financing to the region, and discuss China's COVID-19 diplomacy. The third panel will analyze the elements and geopolitical consequences of China's growing security presence and influence in Latin America and the Caribbean, including the PLA's activities, China's involvement in countries' internal security affairs, and China's access to space facilities and other dual-use infrastructure. The fourth panel will examine regional case studies to illustrate China's activities and their implications for the United States.

The hearing will be co-chaired by Chairman Carolyn Bartholomew and Commissioner Derek Scissors. Any interested party may file a written statement by May 20, 2021 by transmitting to the contact above. A portion of the hearing will include a question and answer period between the Commissioners and the witnesses.

Authority: Congress created the U.S.-China Economic and Security Review Commission in 2000 in the National Defense Authorization Act (Pub. L. 106-398), as amended by Division P of the Consolidated Appropriations Resolution, 2003 (Pub L 108-7), as amended by Public Law 109-108 (November 22, 2005), as amended by Public Law 113-291 (December 19, 2014).

Dated: April 30, 2021.
Daniel W. Peck,
Executive Director, U.S.-China Economic and Security Review Commission.

[FR Doc. 2021-09553 Filed 5-4-21; 8:45 am]

BILLING CODE 1137-00-P